CONSUMER PRODUCT SAFETY COMMISSION

[Docket No. CPSC-2011-0074]

Agency Information Collection Activities; Proposed Collection; Comment Request; CPSC Table Saw User Survey

AGENCY: Consumer Product Safety Commission.

ACTION: Notice.

SUMMARY: The Consumer Product Safety Commission (CPSC or Commission) is announcing an opportunity for public comment on the proposed collection of certain information by the agency. Under the Paperwork Reduction Act of 1995 (PRA), federal agencies are required to publish notice in the Federal Register concerning each proposed collection of information and to allow 60 days for public comment in response to the notice. This notice solicits comments on a survey of table saw users to determine the effectiveness of modular blade guards.

DATES: Submit written or electronic comments on the collection of information by July 29, 2013.

ADDRESSES: You may submit comments, identified by Docket No. CPSC-2011-0074, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2011-0074, into the “Search” box, and follow the prompts. A copy of the draft survey is available at http://www.regulations.gov under Docket No. CPSC-2011-0074, Supporting and Related Materials.

FOR FURTHER INFORMATION CONTACT: Robert H. Squibb, Consumer Product Safety Commission, 4330 East-West Highway, Bethesda, MD 20814; (301) 504-7815, or by email to: rsquibb@cpsc.gov.

SUPPLEMENTARY INFORMATION: Under the PRA (44 U.S.C. 3501-3520), federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to provide a 60-day notice in the Federal Register concerning each proposed collection of information before submitting the collection to OMB for approval. Accordingly, the CPSC is publishing notice of the proposed collection of information set forth in this document.

A. Table Saw User Survey

The CPSC is considering whether a new performance safety standard is needed to address an unreasonable risk of injury associated with table saws. On October 11, 2011, the Commission published an advance notice of proposed rulemaking (ANPR) for table saws, under the Consumer Product Safety Act (CPSA), 15 U.S.C. 2051-2084. (76 FR 62678). The ANPR explained that under the current voluntary standard, UL 987, Stationary and Fixed Electric Tools, published in November 2007, a new modular blade guard design, developed by a joint venture of the leading table saw manufacturers, expanded the table saw guarding requirements. The new blade guard did not consist of a hood, but rather, a top-barrier guarding element and two side-barrier guarding elements. The new modular guard design was intended to be an improvement over traditional hood guard designs, by providing better visibility, by being easier to remove and install, and by incorporating a permanent riving knife design. The revised standard also specified detailed design and performance requirements for the modular blade guard, riving knife, and anti-kickback device(s). The effective date for the new requirements in UL 987 was January 31, 2010.

In the ANPR, the Commission expressed concern that the requirements in the voluntary standard for table saws, UL 987, which include a permanent riving knife and the new modular blade guard system, may not adequately address the operator blade contact injuries associated with table saw use. The Commission stated that:

While we support the recent progress UL has made in improving the voluntary standard to address blade contact injuries by focusing solely on prevention of skin-to-blade contact, the standard requirements do not appear to address adequately the number or severity of blade contact injuries that occur on table saws, nor do they address the associated societal costs. In addition, while we believe that the new modular guard design is a significant improvement over the old guard design, the effectiveness of any blade guard system depends upon an operator's willingness to use it. Safety equipment that hinders the ability to operate the product likely will result in consumers bypassing, avoiding, or discarding the safety equipment. In addition, of the 66,900 table saw operator blade contact injuries in 2007 and 2008, approximately 20,700 (30.9%) of the injuries occurred on table saws where the blade guard was in use. The current voluntary standard for table saws does not appear to address those types of injuries. Accordingly, we are particularly interested in obtaining information regarding current or developing voluntary standards that would address table saw blade contact injuries.

76 FR 62683. Currently, the CPSC does not know how consumers are using the new modular blade guard. Because the usage patterns are directly linked to the safety of the user, additional data are needed to understand how consumers use the modular blade guard to determine how effective the design will be in preventing future injuries. The data collected from this survey will be used to help CPSC staff understand better how consumers are using the modular blade guard system, such as when consumers install and remove the blade guard, what type of cuts are being made without the blade guard, and/or what may be preventing the use of the blade guard. With additional information, the Commission will be able to evaluate the role of modular blade guards in the proposed rule. The data, along with testing results, subject matter input analysis, and other study information, will be used by the Commission to develop the proposed rule addressing consumer injuries associated with table saws.

To gather the information, the CPSC will conduct a survey of consumers who own table saws with a modular blade guard system. Because the population of owners of table saws that were purchased with a modular blade guard is a specific and hard-to-reach population, the survey will be based on a convenience sample of participants recruited by various advertisement strategies. No results from the survey will be generalized to the population. To recruit respondents, advertisements will be placed on popular Web sites, in woodworking magazines, and posted in woodworking guilds with their cooperation. Respondents will have the option to go through a screening process, either online, or via the telephone. Respondents meeting the criteria of the survey—owners of table saws with the modular blade guard system—will participate in the follow-up, full-scale Computer Assisted Telephone Interviewing (CATI) survey about their usage of, and opinions about, the modular blade guard system. After completion of the full-scale CATI survey, each respondent will be sent a $50 check for completing the survey. CPSC staff anticipates that approximately 100 eligible respondents will be interviewed. Up to an additional 100 respondents may be interviewed, if additional funding becomes available.

A final report will summarize the data about modular blade use collected from the surveyed table saw owners. Any patterns that emerge can be considered in conjunction with other testing, subject matter expert analyses, and any other data gathered as part of the rulemaking process, to assess the potential effectiveness of the modular blade guard design and to inform rulemaking. Any patterns that emerge may also be used by CPSC staff to develop future studies.

B. Burden Hours

CPSC staff estimates that the recruitment stage time required to verify whether the respondent fits the study's target group of consumers will not exceed 10 minutes, and the actual survey will not exceed 25 minutes. Thus, total time per eligible respondent is estimated not to exceed 35 minutes. For the 100 anticipated eligible respondents, time required in connection with the survey would be estimated at approximately 58 hours (100 × 0.58 hours) in the aggregate. According to the Bureau of Labor Statistics, March 2013, http://www.bls.gov/news.release/ecec.nr0.htm, the average compensational hourly rate is $28.89. The total cost burden for this study is estimated at $1,676. If an additional 100 respondents were interviewed, the total burden hours would be estimated at $3,352.

The estimated cost to the federal government is $182,159.87 for the costs of recruiting respondents and conducting the survey. In addition, one full-time CPSC employee will spend an estimated 600 hours of labor for an estimated cost of $49,488, the equivalent of a GS-14 Step 5 employee with an additional 30.8 percent added for benefits for an hourly compensation rate of $82.48. (U.S. Bureau of Labor Statistics, “Employer Costs for Employee Compensation,” December 2012, Table 1, percentage of wages and salaries for all civilian management, professional, and related employees, http://www.bls.gov/ncs). Accordingly, the total estimated cost to the federal government is $231,647.87 ($182,159.87 plus $49,488). If an additional 100 respondents are surveyed, the additional estimated cost to the federal government is $98,000 ($31,000 for recruiting + $67,000 for conducting survey), for a total estimated cost to the federal government of $329,647.87.

C. Request for Comments

The CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Dated: May 22, 2013.
Todd A. Stevenson,
Secretary, Consumer Product Safety Commission.

[FR Doc. 2013-12552 Filed 5-24-13; 8:45 am]

BILLING CODE 6355-01-P